DEPARTMENT OF ENERGY

Federal Energy Regulatory Commission

[Docket No. RP04-323-000]

Discovery Gas Transmission LLC; Notice of Filing

June 4, 2004.

Take notice that on June 1, 2004, Discovery Gas Transmission LLC (Discovery) tendered for filing in its FERC Gas Tariff Original Volume No. 1 the following tariffs sheets to continue its current Lost and Unaccounted for Gas percentage:

Fourth Revised Sheet No. 33;

Fourth Revised Sheet No. 44; and

Fourth Revised Sheet No. 53.

Discovery further states that copies of the filing have been mailed to each of its customers, interested State Commissions and other interested persons.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eFiling link.

Linda Mitry,
Acting Secretary.

[FR Doc. E4-1329 Filed 6-9-04; 8:45 am]

BILLING CODE 6717-01-P